DEPARTMENT OF DEFENSE

Office of the Secretary

Notice of Availability of the Mobile Sensors Environmental Assessment and Draft Finding of No Significant Impact

AGENCY: Missile Defense Agency, Department of Defense.

ACTION: Notice of availability and request for comments.

SUMMARY: The Missile Defense Agency (MDA) has completed an environmental ASSESSMENT (EA) in accordance with the National Environmental Policy Act (NEPA) of 1969 and the Council on Environmental Quality regulations implementing NEPA, Department of Defense Instruction 4715.9, Environmental Planning and Analysis, and the applicable service regulations that implement these laws and regulations. Based on this analysis, MDA determined that the proposed activities would not result in a significant impact to the environment and prepared a Draft Finding of No Significant Impact (FONSI). Therefore, further NEPA analysis in the form of an Environmental Impact Statement (EIS) is not required.

DATES: The public review and comment period for this EA and draft FONSI begins with the publication of this notice in the Federal Register. All comments on this EA and draft FONSI must be received by the MDA no later than September 23, 2005.

A downloadable electronic version of the EA and Draft FONSI are available on the MDA Internet site: http://www.mda.mil/mdalink/html/enviro.html.

ADDRESSES: Written comments regarding the EA and Draft FONSI should be submitted to Mobile Sensors EA, c/o ICF Consulting, 9300 Lee Highway, Fairfax, VA 22031; via toll-free fax 1-877-851-5451; or via E-mail: Mobile-sensors-ea@ICFConsulting.com.

SUPPLEMENTARY INFORMATION: The EA analyzes the potential environmental consequences of using mobile land-based sensors (i.e., radar, telemetry, command and control, and optical systems) and the use of airborne sensor systems (High Altitude Observatory [HALO] I and II, and Widebody Airborne Sensor Platform [WASP]). This EA considers impacts associated with the proposed use of land-based mobile sensors and airborne sensor systems on targets of opportunity.

Dated: September 1, 2005.
L.M. Bynum,
Alternate OSD Federal Register Liaison Officer, Department of Defense.

[FR Doc. 05-17788 Filed 9-7-05; 8:45 am]

BILLING CODE 5001-06-M